SMALL BUSINESS ADMINISTRATION

Export Express Pilot Program

AGENCY: U.S. Small Business Administration (SBA).

ACTION: Notice of Pilot Program extension.

SUMMARY: This notice announces the one-year extension of SBA's Export Express Pilot Program until September 30, 2008. This extension will allow time for the Agency to conclude its evaluation of this low-performing loan program for exporters.

DATES: The Export Express Pilot Program is extended under this notice until September 30, 2008.

FOR FURTHER INFORMATION CONTACT: Richard Ginsburg, Office of International Trade, U.S. Small Business Administration, 409 Third Street, SW., Washington, DC 20416; Telephone (202) 205-7429; richard.ginsburg@sba.gov.

SUPPLEMENTARY INFORMATION: The Export Express Pilot Program was established in 1998 to assist current and prospective small exporters, particularly those needing revolving lines of credit. Export Express generally conforms to the streamlined procedures of SBAExpress, although it carries SBA's full 75-85 percent guaranty. The maximum loan amount under this Program is limited to $250,000.

This notice announces the one-year extension of SBA's Export Express Pilot Program until September 30, 2008. Currently lenders have processed just 660 Export Express loans for the five-year period FY 2002-2006. Exports attributed to small businesses have grown from $300 billion in 2002 to $375 billion in 2006. During this time period, the number of small business exporters grew from 215,000 to 230,000, representing 97% of all U.S. exporters. In order for the Export Express loan product to reach maximum potential and serve the special capital needs of U.S. small business exporters, SBA is refocusing its efforts on Export Express and developing a strategic marketing plan to the U.S. small business community and to the Agency's lending partners.

The further extension of this pilot program through September 30, 2008 will enable the Agency to determine whether Export Express should be retained or whether SBA's other programs, including SBAExpress and the Export Working Capital Program, can successfully serve the needs of small business exporters.

(Authority: 13 CFR 120.3)

James W. Hammersley,
Acting Deputy Director, Office of Financial Assistance.

[FR Doc. E7-18759 Filed 9-21-07; 8:45 am]

BILLING CODE 8025-01-P